DEPARTMENT OF DEFENSE

Department of the Army; Corps of Engineers

Intent To Prepare a Draft Environmental Impact Statement (DEIS) for the Navy Base Intermodal Facility at the former Charleston Naval Complex (CNC) in North Charleston, South Carolina

AGENCY: U.S. Army Corps of Engineers, Department of the Army

ACTION: Notice of Intent.

SUMMARY: The U.S. Army Corps of Engineers (Corps), Charleston District intends to prepare a Draft Environmental Impact Statement (DEIS) to assess the potential social, economic, and environmental effects of the proposed construction and operation of an intermodal container transfer facility (ICTF) by the South Carolina Department of Commerce Division of Public Railways d/b/a Palmetto Railways (Palmetto Railways). The DEIS will assess potential effects of a range of alternatives, including the proposed alternative.

DATES: Public Scoping Meeting: A public scoping meeting is planned for Thursday, November 14, 2013 beginning at 5:30 p.m. EDT at the Chicora School of Communications, 3795 Spruill Avenue, North Charleston, South Carolina, 29405. An open house will be held from 5:30-7 p.m. The formal scoping meeting will be held from 7-9 p.m. Individuals and organizations that are interested in the proposed activity or whose interests may be affected by the proposed work are encouraged to attend the Scoping Meeting and to submit written comments to the Corps.

FOR FURTHER INFORMATION CONTACT: For further information and/or questions about the proposed project and DEIS, please contact Mr. Nathaniel Ball, Corps Project Manager, by telephone: 843-329-8044 or toll-free 1-866-329-8187, or by mail: Mr. Nathaniel I. Ball, U.S. Army Corps of Engineers, 69-A Hagood Avenue, Charleston, South Carolina 29403. For inquiries from the media, please contact the Corps, Charleston District Corporate Communication Officer (CCO), Ms. Glenn Jeffries by telephone: 843-329-8123.

SUPPLEMENTARY INFORMATION: The Corps is evaluating a proposal from Palmetto Railways in accordance with Corps regulations and the policies and procedures that are established in the National Environmental Policy Act (NEPA). Based on the available information, the Corps has determined that the Proposed Navy Base Intermodal Facility has the potential to significantly affect the quality of the human environment and therefore warrants the preparation of an EIS. Additional information about the proposed project and the NEPA process is available on the project Web site at: www.navybaseictf.com.

1. Description of the Proposed Project. Palmetto Railways currently provides rail services to Union Pier Terminal, Columbus Street Terminal, Veterans Terminal, and North Charleston Terminal and various private industries in the region. Palmetto Railways has proposed to construct and operate an ICTF on a 90-acre site at the former CNC. The proposed ICTF would provide equal access to both Class I railroads serving Charleston, South Carolina: CSX Transportation (CSX) and Norfolk Southern Railway (NS). The ICTF would be a state-of-the-art intermodal terminal that would utilize sustainable intermodal terminal technologies. The proposed ICTF is being designed to accommodate existing intermodal rail traffic and anticipated future growth associated with the Port of Charleston. Components of the ICTF would include conventional terminal components such as high-mast lighting, rail or rubber-tired mounted container cranes, and terminal hostlers. Further, it is anticipated that the development of the ICTF will encourage the development of freight-related facilities adjacent to the ICTF that would include warehousing and distribution facilities, as well as transloading and other freight-related industrial facilities.

2. Alternatives. A range of alternatives to the proposed action will be identified, and those found to be reasonable alternatives will be fully evaluated in the DEIS, including: the no-action alternative, the applicant's proposed alternative, alternatives that may result in avoidance and minimization of impacts, and mitigation measures not in the proposed action; however, this list in not exclusive and additional alternatives may be considered for inclusion.

3. Scoping and Public Involvement Process. A scoping meeting will be conducted to gather information on the scope of the project and alternatives to be addressed in the DEIS. Additional public and agency involvement will be sought through the implementation of a public involvement plan and through an agency coordination team.

4. Significant issues. Issues and potential impacts associated with the proposed project that are likely to be given detailed analysis in the DEIS include, but are not necessarily limited to,: existing transportation infrastructure (roadways and railways), waters of the United States, air quality, noise, light, environmental justice, economics, visual resources/aesthetics, general environmental concerns, historic properties, fish and wildlife values, Federally-listed threatened or endangered species, flood hazards, flood plain values, land use, recreation, water quality, hazardous waste and materials, socioeconomics, safety, and in general, the needs and welfare of the people.

5. Additional Review and Consultation. Additional review and consultation, which will be incorporated into the preparation of this DEIS, will include, but will not necessarily be limited to, Section 401 of the Clean Water Act; Essential Fish Habitat (EFH) consultation requirements of the Magnuson-Stevens Fishery Conservation and Management Act; the National Environmental Policy Act; the Endangered Species Act; and the National Historic Preservation Act.

6. Availability of the Draft EIS. The Corps expects the DEIS to be made available to the public in late fall/winter 2014. A Public Hearing will be held during the public comment period for the DEIS.

John T. Litz,
Lieutenant Colonel, U.S. Army Corps of Engineers, Charleston District.

[FR Doc. 2013-24736 Filed 10-22-13; 8:45 am]

BILLING CODE 3720-58-P